DEPARTMENT OF HOMELAND SECURITY

Coast Guard

[USCG-2003-15797]

Draft Environmental Impact Statement for the Proposed Lake Washington Ship Canal Bridge and Proposed Modification of the Duwamish Waterway Bridge

AGENCY: Coast Guard, DHS.

ACTION: Notice of availability; notice of public hearing; and request for public comments.

SUMMARY: The Coast Guard announces the availability of a Draft Environmental Impact Statement (Draft EIS) for the Seattle Monorail Project “Green Line” monorail in Seattle, Washington. The Draft EIS has been prepared in cooperation with the Seattle Monorail Project, which is a municipal transportation agency of the State of Washington and is proposing the transit project analyzed in the Draft EIS. The Coast Guard and the Seattle Monorail Project agreed to prepare this Draft EIS to satisfy the requirements of both the National Environmental Policy Act (NEPA) and the Washington State Environmental Policy Act (SEPA) for the proposed Green Line monorail project. We request your comments on the Statement. The Coast Guard will hold a public hearing to receive comments on the Draft EIS. The proposed location of the bridge is across the Lake Washington Ship Canal, approximate milepoint 1.0, at Seattle, Washington. The proposed bridge modification is across the Duwamish Waterway, approximate milepoint 0.3, at Seattle, Washington. The hearing will allow interested persons to present comments and information concerning the impact of the proposed bridgework on navigation and the human environment. Because the Coast Guard is using the EIS process to also conduct public outreach under the National Historic Preservation Act, this public hearing is also an opportunity for the public to comment on the proposed project's impacts to cultural resources, such as historic resources or archaeological resources.

DATES: This hearing will be held on Monday, September 29, 2003, with an afternoon and evening session. The afternoon session will begin promptly at 1 p.m. and adjourn at 3 p.m. The evening session will begin promptly at 5 p.m. and adjourn when all evening speakers have spoken. Requests to speak, with session preference, and requests for services must be received in the Bridge Section at the address given under ADDRESSES by September 22, 2003. Attendees at the hearing, who wish to present testimony and have not previously made a request to do so, will follow those having submitted a request, as time permits. Comments pertaining to the Draft EIS must be received by the docket October 14, 2003.

ADDRESSES: To make sure that your comments and related material are not entered more than once in the docket, please submit them by only one of the following means:

(1) Electronically through the Web site for the Docket Management System at http://dms.dot.gov.

(2) By mail to the Docket Management Facility, (USCG-2003-15797), U.S. Department of Transportation, room PL-401, 400 Seventh Street SW., Washington, DC 20590-0001.

(3) By fax to the Docket Management Facility at 202-493-2251.

(4) By delivery to room PL-401 on the Plaza level of the Nassif Building, 400 Seventh Street SW., Washington, DC, between 9 a.m. and 5 p.m., Monday through Friday, except Federal holidays. The telephone number is 202-366-9329.

The Docket Management Facility maintains the public docket for this notice. Comments and material received from the public, as well as the Draft EIS, will become part of this docket and will be available for inspection or copying at room PL-401 on the Plaza level of the Nassif Building, 400 Seventh Street SW., Washington, DC, between 9 a.m. and 5 p.m., Monday through Friday, except Federal holidays. You may also find this docket, including the Draft EIS, on the Internet at http://dms.dot.gov.

The hearing will be held at the Northwest Rooms, Seattle Center, 305 Harrison Street, Seattle, Washington. The Northwest Rooms are near the northwest corner of the Seattle Center campus, just to the north of the Key Arena.

The Coast Guard point of contact is Mr. Austin Pratt, Bridge Section, Commander (oan), Thirteenth Coast Guard District, 915 Second Avenue, Room 3510, Seattle, WA 98174-1067.

Requests to receive copies of the Draft EIS should be sent to the Seattle Monorail Project, ATTN: Mr. Ross Macfarlane, 1904 Third Avenue, Suite 105, Seattle, WA 98101. Alternatively, the Draft EIS is available on the Internet at http://www.elevated.org. Copies are also available for inspection at the offices of the Seattle Monorail Project, 1904 Third Avenue, Suite 105, Seattle, WA 98191 (telephone (206) 328-1220), and are available at the City of Seattle public libraries, and at the U.S. Coast Guard Bridge Section address given under ADDRESSES.

Comments, including names and home addresses, may be published as part of the Final EIS. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: If you have questions on this notice, the proposed project, or the associated Draft EIS, call Mr. Austin Pratt, Bridge Administrator, telephone (206) 220-7282. Information may also be obtained from the Seattle Monorail Project, 1904 Third Avenue, Suite 105, Seattle, WA 98101, telephone (206) 382-1220. Information, including copies of the Draft EIS, is available over the Internet at the Seattle Monorail Project Web site: http://www.elevated.org. If you have questions on viewing or submitting material to the docket, call Dorothy Beard, Chief, Dockets, Department of Transportation, telephone 202-366-5149.

SUPPLEMENTARY INFORMATION:

Request for Comments

We encourage you to submit comments and related material on the Draft EIS. If you do so, please include your name and address, identify the docket number for this notice (USCG-2003-15797) and give the reasons for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know they reached the Facility, please enclose a stamped, self-addressed postcard or envelope. We will consider all comments and material received during the comment period.

Proposed Action

The project under consideration is a 14-mile monorail line in Seattle, Washington, that will provide transit service serving a number of Seattle communities and destinations. The project is being proposed by the Seattle Popular Monorail Authority (also known as Seattle Monorail Project or SMP), which is a city transportation authority organized under Washington Revised Code Chapter 35.95A. The Green Line would use traditional monorail technology, which consists of linked train cars straddling an elevated guideway beam that provides electric power to propel the train cars. Green Line trains would run on rubber tires that are locked into the beams and would be operated automatically and not require drivers.

The Green Line includes a new bridge crossing of the Lake Washington Ship Canal (near the existing Ballard Bridge), for which a bridge permit from the Coast Guard and environmental review pursuant to the National Environmental Policy Act (NEPA) are required. A crossing of the Duwamish Waterway on the existing West Seattle High-Rise Bridge is proposed, and may also require a bridge permit from the Coast Guard depending on final design drawings. Comments regarding impacts that the proposed Green Line bridgework may have on navigation of the Lake Washington Ship Canal or the Duwamish Waterway will be of particular relevance to the Coast Guard's bridge permitting responsibilities. In order to evaluate indirect and cumulative environmental impacts of the Coast Guard's bridge permit actions, the Coast Guard and the SMP have agreed that the scope of NEPA review should be the entire 14-mile Green Line proposal.

The Green Line is being proposed in accordance with Seattle Citizens' Petition No. 1, which was passed by Seattle voters in November 2002. In Petition No. 1, voters adopted the Seattle Popular Monorail Plan, created the SMP, required the SMP to adopt and implement the Seattle Popular Monorail Plan, and authorized funding for the construction and operation of the Green Line as described in the Plan. The proposed Green Line would run from the Ballard neighborhood of Seattle, through the Interbay and Ballard industrial areas, through downtown Seattle, through the South Downtown (SODO) industrial area, and then to the West Seattle neighborhood. The Green Line would connect the urban neighborhoods in Ballard and West Seattle with the industrial/manufacturing areas in the Interbay and SODO areas and with the downtown urban core and central business district of the City of Seattle.

Procedural

Individuals and representatives of organizations who wish to present testimony at the hearing or who want to be placed on the project mailing list, may submit a request to the Bridge Section at the address listed under ADDRESSES clearly indicating name and organization represented, if applicable. Requests to speak should be received no later than September 22, 2003, in order to ensure proper scheduling for the hearing. Attendees at the hearing, who wish to present testimony and have not previously made a request to do so, will follow those having submitted a request, as time permits. Speakers will be called in the order of receipt of the request. Depending upon the number of scheduled statements, the Coast Guard may limit the amount of time allowed for each speaker. Written statements and other exhibits in lieu of, or in addition to, oral statements at the hearing may be submitted to the Bridge Section at the address listed under ADDRESSES until October 14, 2003, to be included in the Public Hearing transcript. Beginning at 1 p.m. on the hearing date, Seattle Monorail Project representatives will be available with project display materials adjacent to the hearing room to explain the project and answer questions from the public.

Information on Services for Individuals with Disabilities

For information about facilities or services for individuals with disabilities or to request special assistance at the meeting, contact the Commander (oan), Thirteenth Coast Guard District. Please request these services by contacting the Bridge Section at the phone number under FOR FURTHER INFORMATION CONTACT or in writing at the address listed under ADDRESSES. Any requests for an oral or sign language interpreter must be received by September 22, 2003.

Authority: Section 102(2) of the National Environmental Policy Act of 1969, 40 CFR 1503.1, 36 CFR 800.2(d).

Dated: July 30, 2003.
N.E. Mpras,
Chief, Office of Bridge Administration, U.S. Coast Guard.

[FR Doc. 03-21954 Filed 8-28-03; 8:45 am]

BILLING CODE 4910-15-P